DEPARTMENT OF AGRICULTURE

Animal and Plant Health Inspection Service

[Docket No. APHIS-2022-0047]

Addition of Gabon, Guinea, and Moldova to the List of Regions Affected With Highly Pathogenic Avian Influenza

AGENCY: Animal and Plant Health Inspection Service, USDA.

ACTION: Notice.

SUMMARY: We are advising the public that we added Gabon, Guinea, and Moldova to the list of regions that the Animal and Plant Health Inspection Service considers to be affected with highly pathogenic avian influenza (HPAI). These actions follow our imposition of HPAI-related restrictions on the importation of avian commodities originating from or transiting Gabon, Guinea, and Moldova as a result of the confirmation of HPAI in Gabon and Guinea, and reports of HPAI from the veterinary authorities of Moldova in the country.

DATES: Gabon, Guinea, and Moldova were added to the list of regions APHIS considers to be affected with HPAI, effective respectively on May 23, 2022; June 8, 2022; and January 31, 2022.

FOR FURTHER INFORMATION CONTACT: For further information regarding HPAI in Gabon and Moldova, contact Dr. C. Aaron Monroy, Regionalization Evaluation Services, Strategy and Policy, VS, 920 Main Campus Drive, Venture II, Raleigh, NC 27606; phone: (919) 855-7207; email: AskRegionalization@usda.gov. For further information regarding HPAI in Guinea, contact Dr. Ingrid Kotowski, Regionalization Evaluation Services, Strategy and Policy, VS, 920 Main Campus Drive, Venture II, Raleigh, NC 27606; phone: (919) 855-7732; email: AskRegionalization@usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 of the regulations contains requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. The Animal and Plant Health Inspection Service (APHIS) maintains a list of restricted regions it considers to be affected with HPAI of any subtype on the APHIS website at https://www.aphis.usda.gov/aphis/ourfocus/animalhealth/animal-and-animal-product-import-information/animal-health-status-of-regions.

APHIS receives notice of HPAI outbreaks from veterinary officials of the exporting country, from the World Organization for Animal Health (WOAH) or from other sources the Administrator determines to be reliable.

On May 19, 2022, the veterinary authorities of Gabon reported to WOAH an HPAI occurrence in that country. On May 23, 2022, after confirming that the HPAI occurred in commercial birds or poultry, APHIS added Gabon to the list of regions where HPAI exists. On that same day, APHIS issued an import alert notifying stakeholders that APHIS imposed restrictions on the importation of poultry, commercial birds, other types of birds (research, performing), ratites, any avian hatching eggs, unprocessed avian products and byproducts, and certain fresh poultry products from Gabon to mitigate risk of HPAI introduction into the United States.

On June 3, 2022, the veterinary authorities of Guinea reported to WOAH an HPAI occurrence in that country. On June 8, 2022, after confirming that the HPAI occurred in commercial birds or poultry, APHIS added Guinea to the list of regions where HPAI exists. On that same day, APHIS issued an import alert notifying stakeholders that APHIS imposed restrictions on the importation of poultry, commercial birds, other types of birds (research, performing), ratites, any avian hatching eggs, unprocessed avian products and byproducts, and certain fresh poultry products originating from or transiting Guinea to mitigate risk of HPAI introduction into the United States.

On January 24, 2022, the veterinary authorities of Moldova reported to WOAH an HPAI occurrence in that country. On January 31, 2022, APHIS provisionally added Moldova to the list of regions where HPAI exists, pending a request for information. On that same day, APHIS issued an import alert notifying stakeholders that APHIS imposed restrictions on the importation of poultry, commercial birds, other types of birds (research, performing), ratites, any avian hatching eggs, unprocessed avian products and byproducts, and certain fresh poultry products originating from or transiting Moldova to mitigate risk of HPAI introduction into the United States. On February 25, 2022, after receiving insufficient information from Moldova, APHIS determined that removal of Moldova from the list of regions where HPAI exists would require a formal re-evaluation pursuant to § 92.4.

With the publication of this notice, we are informing the public that we added: Gabon to the list of regions APHIS considers to be affected with HPAI of any subtype, effective May 23, 2022; Guinea to the list of regions APHIS considers to be affected with HPAI of any subtype, effective June 8, 2022; and Moldova to the list of regions APHIS considers to be affected with HPAI of any subtype, effective January 31, 2022. This notice serves as an official record and public notification of these actions.

Congressional Review Act

Pursuant to the Congressional Review Act (5 U.S.C. 801 et seq.), the Office of Information and Regulatory Affairs designated this action as not a major rule, as defined by 5 U.S.C. 804(2).

Authority: 7 U.S.C. 1633, 7701-7772, 7781-7786, and 8301-8317; 21 U.S.C. 136 and 136a; 31 U.S.C. 9701; 7 CFR 2.22, 2.80, and 371.4.

Done in Washington, DC, this 25th day of May 2023.
Michael Watson,
Acting Administrator, Animal and Plant Health Inspection Service.

[FR Doc. 2023-11575 Filed 5-31-23; 8:45 am]

BILLING CODE 3410-34-P